DEPARTMENT OF COMMERCE

International Trade Administration

[A-570-042]

Stainless Steel Sheet and Strip From the People's Republic of China: Final Results of Expedited Sunset Review of the Antidumping Duty Order

AGENCY: Enforcement and Compliance, International Trade Administration, Department of Commerce.

SUMMARY: As a result of this expedited sunset review, the U.S. Department of Commerce (Commerce) finds that revocation of the antidumping duty (AD) order on stainless steel sheet and strip (SSSS) from the People's Republic of China (China) would be likely to lead to continuation or recurrence of dumping at the levels indicated in the “Final Results of Review” section of this notice.

DATES: Applicable July 6, 2022.

FOR FURTHER INFORMATION CONTACT: Jacqueline Arrowsmith, AD/CVD Operations, Office III, Enforcement and Compliance, International Trade Administration, U.S. Department of Commerce, 1401 Constitution Avenue NW, Washington, DC 20230; telephone: (202) 482-5255.

SUPPLEMENTARY INFORMATION:

Background

On March 1, 2022, Commerce published the notice of initiation of the sunset review of the AD order on SSSS from China,¹ pursuant to section 751(c) of the Tariff Act of 1930, as amended (the Act).² On March 15, 2022, Commerce received a notice of intent to participate from the domestic interested parties within the deadline specified in 19 CFR 351.218(d)(1)(i).³ The domestic interested parties claimed domestic interested party status under section 771(9)(C) of the Act, as producers of the domestic like product in the United States.⁴ On March 30, 2022, the domestic interested parties submitted a timely substantive response within the 30-day deadline specified in 19 CFR 351.218(d)(3)(i).⁵ Commerce did not receive a substantive response from any other interested parties with respect to the Order covered by this sunset review, nor was a hearing requested. On April 20, 2022, Commerce notified the U.S. International Trade Commission that it did not receive an adequate substantive response from respondent interested parties.⁶ As a result, pursuant to section 751(c)(3)(B) of the Act and 19 CFR 351.218(e)(1)(ii)(C)(2), Commerce is conducting an expedited (120-day) sunset review of the Order.

¹ See Stainless Steel Sheet and Strip from the People's Republic of China: Antidumping Duty Order, 82 FR 16160 (April 3, 2017) (Order).

² See Initiation of Five-Year (Sunset) Review, 87 FR 11416 (March 1, 2022).

³ See Domestic Interested Parties' Letter, “Five-Year (“Sunset”) Review of the Antidumping Duty Order on Stainless Steel Sheet and Strip from China—Domestic Interested Parties' Notice of Intent to Participate,” dated March 15, 2022.

⁴ Id. at 2.

⁵ See Domestic Interested Parties' Letter, “Five-Year (`Sunset') Review of Antidumping Duty Order on Stainless Steel from China: Domestic Industry Substantive Response to Notice of Initiation,” dated March 30, 2022.

⁶ See Commerce's Letter, “Sunset Reviews Initiated on March 1, 2022,”dated April 20, 2022.

Scope of the Order

The product covered by the Order is SSSS from China. For a full description of the scope, see the Issues and Decision Memorandum.⁷

⁷ See Memorandum, “Issues and Decision Memorandum for the Final Results of Expedited Sunset Review of Stainless Steel from the People's Republic of China,” dated concurrently with, and hereby adopted by, this notice (Issues and Decision Memorandum).

Analysis of Comments Received

All issues raised in this sunset review are addressed in the Issues and Decision Memorandum. A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx.

Final Results of Sunset Review

Pursuant to sections 751(c) and 752(c) of the Act, Commerce determines that revocation of the Order would be likely to lead to continuation or recurrence of dumping, and that the magnitude of the dumping margins likely to prevail would be weighted-average dumping margins of up to 76.64 percent.

Administrative Protective Order

This notice serves as the only reminder to parties subject to administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notification to Interested Parties

We are issuing and publishing these final results in accordance with sections 751(c), 752(c), and 777(i)(1) of the Act, and 19 CFR 351.218(e)(1)(ii)(C)(2) and 19 CFR 351.221(c)(5)(ii).

Dated: June 29, 2022.
Ryan Majerus,
Deputy Assistant Secretary for Policy and Negotiations.

Appendix—List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Sunset Review

VIII. Recommendation

[FR Doc. 2022-14315 Filed 7-5-22; 8:45 am]

BILLING CODE 3510-DS-P